DEPARTMENT OF COMMERCE

National Oceanic and Atmospheric Administration

Federal Consistency Appeal by Foothill/Eastern Transportation Corridor Agency

AGENCY: National Oceanic and Atmospheric Administration (NOAA), Department of Commerce (Commerce).

ACTION: Notice of Public Hearing.

SUMMARY: This notice is provided to cancel the July 25, 2008 public hearing that was to be held by the National Oceanic and Atmospheric Administration (NOAA) in Irvine, California regarding the appeal filed with the Department of Commerce by the Foothill/Eastern Transportation Corridor Agency (TCA). The public hearing was noticed in the Federal Register on July 8, 2008, and is being canceled because the venue that had agreed to serve as the site for the hearing—the Bren Events Center of the University of California, Irvine—has withdrawn its agreement to do so. The public and Federal agency comment period for the TCA Consistency Appeal will remain open July 21, 2008 through August 4, 2008.

DATES: NOAA will not be conducting a public hearing in the TCA Consistency Appeal on July 25, 2008, but the public and Federal agency comment period will remain open from July 21, 2008 to August 4, 2008.

ADDRESSES: Comments on the appeal may be submitted by e-mail to gcos.comments@noaa.gov or by mail addressed to Thomas Street at the NOAA Office of the General Counsel for Ocean Services, 1305 East-West Highway, Room 6111, Silver Spring, MD 20910.

FOR FURTHER INFORMATION CONTACT: Thomas Street, Attorney-Advisor, NOAA Office of the General Counsel, 301-713-2967, or Stephanie Campbell, Attorney-Advisor, NOAA Office of the General Counsel, 301-713-2967, or gcos.inquiries@noaa.gov.

SUPPLEMENTARY INFORMATION: On February 15, 2008, TCA filed notice of an appeal with the Secretary of Commerce (Secretary), pursuant to the Coastal Zone Management Act of 1972 (CZMA), 16 U.S.C. 1451 et seq., and implementing regulations found at 15 CFR part 930, subpart H. TCA appealed an objection by the California Coastal Commission (Commission) to TCA's proposed construction of an extension to California State Route 241 in northern San Diego and southern Orange Counties, California.

Under the CZMA, the Secretary may override the Commission's objection if he determines that the project is consistent with the objectives or purposes of the CZMA or is otherwise necessary in the interest of national security. To make the determination that the proposed activity is consistent with the objectives or purposes of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the state's coastal management program. 15 CFR 930.121.

On March 17, 2008, NOAA published a notice in the Federal Register announcing, among other things, that a public hearing might be held concerning this appeal. On July 8, 2008, NOAA published notice in the Federal Register describing scheduling and procedural information about the hearing. The hearing was to be held at the Bren Events Center of the University of California, Irvine (Bren Center) on July 25, 2008. The Bren Center was chosen in part because of its capacity. The facility can seat 4,700 people, which is substantially more than the crowd of approximately 3,500 that attended the Commission's hearing on the TCA project earlier this year.

After notice of the hearing was published, the Bren Center was contacted by a number of interested individuals and groups that intend to attend the hearing. Based on these communications, the Bren Center staff estimated over 10,000 people may attend the public hearing, and determined their facility could not accommodate a crowd of this size, as it would exceed the facility's capacity and security resources. On July 10, the Bren Center staff informed NOAA that they withdrew their agreement to serve as the site for the hearing, forcing NOAA to cancel the July 25 hearing date.

NOAA is currently looking at later dates for a hearing and alternative sites that are consistent with available resources. In the meantime, the public may submit written comments on the appeal from July 21 through August 4, the period established in NOAA's July 8 Federal Register notice. Specifically, written comments may be submitted by e-mail to gcos.comments@noaa.gov or by mail addressed to Thomas Street, NOAA Office of General Counsel for Ocean Services, 1305 East-West Highway, Room 6111, Silver Spring, MD 20910. Comments must be received by August 4, 2008.

A summary of relevant issues as well as additional background on the appeal appeared in the Federal Register notice of March 17, 2008, announcing the appeal, and may be found on the Internet at http://www.ogc.doc.gov/czma.com.htm. Questions should be directed to Thomas Street, Attorney-Advisor, NOAA Office of the General Counsel, 301-713-2967, or Stephanie Campbell, Attorney-Advisor, NOAA Office of the General Counsel, 301-713-2967, or gcos.inquiries@noaa.gov.

(Federal Domestic Assistance Catalog No. 11.419 Coastal Zone Management Program Assistance.)

Dated: July 18, 2008.
Jeffrey S. Dillen,
Acting Assistant General Counsel for Ocean Services.

[FR Doc. E8-16880 Filed 7-22-08; 8:45 am]

BILLING CODE 3510-08-P